DEPARTMENT OF COMMERCE

National Oceanic and Atmospheric Administration

[RIN 0648-XA464]

Endangered and Threatened Species; Take of Anadromous Fish

AGENCY: National Marine Fisheries Service (NMFS), National Oceanic and Atmospheric Administration (NOAA), Commerce.

ACTION: Notice; research permit applications.

SUMMARY: Notice is hereby given that NMFS has received four scientific research and enhancement permit application requests relating to salmonids listed under the Endangered Species Act (ESA). The proposed research programs are intended to increase knowledge of the species and to help guide management and conservation efforts.

DATES: Written comments on the permit applications must be received at the appropriate address or fax number (see ADDRESSES) no later than 5 p.m. Pacific standard time on July 1, 2011.

ADDRESSES: Written comments on either application should be submitted to the Protected Resources Division, NMFS, 777 Sonoma Avenue, Room 325, Santa Rosa, CA 95404. Comments may also be submitted via fax to (707) 578-3435 or by email to FRNpermits.SR@noaa.gov. The applications and related documents may be viewed online at: https://apps.nmfs.noaa.gov/preview/preview_open_for_comment.cfm. These documents are also available upon written request or by appointment by contacting NMFS by phone (707) 575-6097 or fax (707) 578-3435.

FOR FURTHER INFORMATION CONTACT: Jeffrey Jahn, Santa Rosa, CA (ph.: 707-575-6097, e-mail: Jeffrey.Jahn@noaa.gov).

SUPPLEMENTARY INFORMATION:

Species Covered in This Notice

This notice is relevant to federally threatened Central California Coast steelhead (Oncorhynchus mykiss), threatened Southern-Central California Coast steelhead (O. mykiss), endangered Central California Coast coho salmon (O. kisutch), and threatened California Coastal Chinook salmon (O. tshawytscha).

Authority

Scientific research permits are issued in accordance with section 10(a)(1)(A) of the ESA of 1973 (16 U.S.C. 1531-1543) and regulations governing listed fish and wildlife permits (50 CFR parts 222-226). NMFS issues permits based on findings that such permits: (1) Are applied for in good faith; (2) if granted and exercised, would not operate to the disadvantage of the listed species which are the subject of the permits; and (3) are consistent with the purposes and policies set forth in section 2 of the ESA. The authority to take listed species is subject to conditions set forth in the permits.

Anyone requesting a hearing on the applications listed in this notice should set out the specific reasons why a hearing on the application(s) would be appropriate (see ADDRESSES). Such hearings are held at the discretion of the Assistant Administrator for Fisheries, NMFS.

Applications Received

Permit 15730

Salmon Protection and Watershed Network (SPAWN) is requesting a 5-year scientific research and enhancement permit to take juvenile Central California Coast (CCC) steelhead, juvenile CCC coho salmon, and juvenile California Coastal (CC) Chinook salmon (ESA-listed salmonids) and adult carcasses of each species associated with a research project in the Lagunitas Creek and San Geronimo Creek watersheds in Marin County, California. In the study described below, researchers do not expect to kill any listed fish but a small number may die as an unintended result of the research activities.

This project is part of an ongoing effort to monitor population status and trends of juvenile and adult ESA-listed salmonids and to document baseline habitat conditions. This data will aid future research, restoration, and conservation efforts for ESA-listed salmonids. The objectives are to: (1) Continue ongoing juvenile rescue and relocation efforts, (2) survey adult salmonid spawning activities and juvenile smolt outmigration, and (3) determine salmonid habitat utilization. In these projects, ESA-listed salmonids will be captured (by dip-net, pipe-trap, funnel trap, fyke-net trap, or seine), anesthetized, handled (identified, measured, weighed), sampled (fin clips or scales), marked [fin clips or Passive Integrated Transponder (PIT) tags], and released. All data and information will be shared with county, state, and federal entities for use in conservation and restoration planning efforts related to ESA-listed salmonids.

Study 1 is a salmonid spawner abundance monitoring study in the San Geronimo Creek watershed. Surveys will be conducted on ten or fewer sites in tributaries to San Geronimo Creek. Researchers will survey stream reaches from October through April and observe the number, species, sex, size, condition, location, and behavior of spawning adult ESA-listed salmonids. Redds will be located, marked, and mapped.

Carcasses of ESA-listed salmonids that are encountered during spawner surveys will be identified, measured, evaluated for spawning condition, marked to avoid double counting, and returned to the location where they were found.

Study 2 is a juvenile salmonid summer habitat and rescue/relocation study in the San Geronimo Creek watershed. Juvenile salmonid habitat monitoring will be conducted annually from June through October. San Geronimo Creek and its tributaries will be visually surveyed to determine presence and absence of salmonids and monitored to determine water flow, pool depth, and temperature in pools. If stream flow ceases and pools become disconnected and begin to dry, juvenile CCC coho salmon and CCC steelhead will be removed and relocated. Fish will be captured by dip-net and transported to a perennial flow section downstream on their natal tributary or to San Geronimo Creek. Relocated fish will be measured and identified and stream conditions will be recorded. A subset of relocated CCC steelhead will be anesthetized and tagged with PIT tags to quantify relocation success by outmigration efficiency. A disjunct area of San Geronimo Creek called Roy's Pools, will be drained and electrofished to rescue stranded fish. Rescued fish will be anesthetized, measured, then released into a pool immediately downstream of Roy's Pools.

Study 3 is a juvenile salmonid movement monitoring study in the San Geronimo Creek watershed. Coho salmon and steelhead smolt production in Lagunitas and San Geronimo creeks will be monitored annually from March-June. Pipe-traps and funnel traps will be used to capture juvenile ESA-listed salmonids. Juvenile CC Chinook will be captured, handled, and released. Smolts and young of the year (YOY) CCC coho salmon and CCC steelhead will be captured in the traps, anesthetized, and analyzed to determine species, length, weight, and the degree of smoltification. Salmon fry observed in the trap will be observed, counted and estimated for length. Scale samples will also be collected from up to ten CCC coho and ten CCC steelhead smolts each sampling day throughout the study period. The mark-recapture monitoring study used to generate population estimates will consist of marking up to ten CCC coho and ten CCC steelhead smolts with a fin clip followed by upstream relocation and release.

Permit 16110

Marin Municipal Water District (MMWD) is requesting a 5-year scientific research permit to take juvenile and adult CCC steelhead, juvenile and adult (spawned carcasses) of CCC coho salmon, and juvenile and adult (spawned carcasses) of Chinook salmon associated with a research project in the Lagunitas Creek watershed in Marin County, California. In the studies described below, researchers do not expect to kill any listed fish but a small number may die as an unintended result of the research activities.

MMWD is currently monitoring coho salmon and steelhead populations in Lagunitas Creek (including two tributaries, San Geronimo Creek and Devil's Gulch) and Walker Creek. Current monitoring consists of juvenile salmonid surveys in fall, spawner surveys in winter and smolt outmigration monitoring in spring. The purpose of the proposed scientific research is to determine the trends in ESA-listed salmonid abundance at multiple life stages, to determine whether there is a relationship between population trends and MMWD management efforts, and to determine what salmonid life stages suffer the lowest survival and should be a focus of future management practices.

Study 1 is a summer/fall juvenile salmonid population abundance and salmonid habitat monitoring study in Lagunitas Creek. Sampling will occur at 13 established reaches from August through October. Backpack electrofishing will be used to capture juvenile CCC coho salmon and CCC steelhead. Captured fish will be anesthetized, handled (identified to species, measured and weighed), scale sampled, implanted with PIT tags and released back into the habitat from which they were taken. Habitat type and quality will be assessed at each survey site.

Study 2 is a juvenile salmonid presence/absence and population genetics study in Walker Creek. Sampling will occur from August through October. Backpack electrofishing will be used to capture juvenile CCC coho salmon and CCC steelhead juveniles. Captured fish will be anesthetized, handled (identified to species, measured and weighed), sampled (by collection of fin clips, scales or opercle), and released back into the habitat unit from which they were taken.

Study 3 is a salmonid spawner abundance and population genetics study in the Lagunitas Creek watershed (including tributaries Devil's Gulch, San Geronimo Creek, and Woodacre Creek) and Walker Creek. Teams will survey stream reaches from October through March and observe the number, species, location, and behavior of spawning adult ESA-listed salmonids. Redds will be located and measured. Carcasses of ESA-listed salmonids that are encountered during spawner surveys will be identified, measured, evaluated for spawning condition, tissue sampled, marked to avoid double counting, and returned to the location where they were found.

Study 4 is a salmonid smolt outmigration monitoring study in Lagunitas Creek. One or two rotary screw traps will be operated annually from March into June. Smolts and YOY of CCC coho, CC Chinook salmon, and CCC steelhead will be captured in the rotary screw trap, anesthetized and handled to determine species, length and weight. The majority of captured juvenile salmonids will be released downstream of the trap. A small number of captured juvenile ESA-listed salmonids, will be marked using fin clips or PIT tags, released upstream of the rotary screw trap, and may be subsequently recaptured. A second trap may be employed at an upstream location to quantify the proportion of smolts originating between the two traps.

Study 5 will determine juvenile CCC coho use of off-channel habitat enhancement areas on Lagunitas Creek. Fish will be captured using a combination of backpack electrofishing and seining. Sampling will occur from January and February, prior to the smolt outmigration period. Fish will be PIT tagged to compare growth rates of fish in off-channel versus in-stream areas. The movement of PIT tagged fish will be monitored from January through June by hand-held and stationary PIT tag readers.

Study 6 will estimate winter survival of juvenile salmonids by marking fish in the fall and recapturing them during smolt monitoring in the spring. The proportion of recaptured fish, combined with a smolt emigration estimate, will provide a back-calculated estimate of fall juvenile salmonid abundance that will help validate the estimate developed in Study 1. Fish will be captured by electrofisher and a limited amount of CCC coho salmon and CCC steelhead will be PIT tagged and released back into the habitat from which they were collected.

Permit 15824

The County of Santa Cruz, Environmental Health Services is requesting a 5-year scientific research permit to take juvenile CCC steelhead, juvenile South-Central California Coast (S-CCC) steelhead, and juvenile CCC coho salmon associated with a research project in four watersheds in Santa Cruz County, California. This is an ongoing fish monitoring program that has been included in the annual California Department of Fish and Game research program under the ESA 4(d) rule for threatened salmonids. The 4(d) rule exempts qualifying research programs from the prohibitions of section 9(a)(1) of the ESA. Because the County of Santa Cruz has expanded monitoring to include endangered CCC coho salmon, a section 10(a)(1)(A) permit is required. In the study described below, researchers do not expect to kill any listed fish but a small number may die as an unintended result of the research activities.

The purpose of the project is to document habitat conditions and site densities of juvenile salmonids in the San Lorenzo River, Soquel Creek, Aptos Creek, and Corralitos Creek in Santa Cruz County. The information will be used to track salmonid spawning and rearing conditions, prioritize restoration and conservation efforts, and inform land and water use decisions.

Sampling will occur annually, for 5 to 6 days per week within a 5-week period between September and October. Fish will be collected by backpack electrofisher. Captured fish will be placed in a live car and kept in flowing water. All juvenile ESA-listed salmonids will be measured, checked for PIT tags and then released into the habitat where they were collected. Deep pools within the mainstem San Lorenzo River will be snorkeled by two divers following electrofishing. Researchers will use a beach seine to capture a limited amount of CCC steelhead in the Aptos Creek lagoon for a total of two sampling days per year. A subset of seine captured fish will have scales removed for analysis and will be marked by fin-clipping.

Permit 16318

Hagar Environmental Science is requesting a 5-year scientific research permit to take juvenile CCC steelhead, juvenile S-CCC steelhead, and juvenile CCC coho salmon associated with a research project in selected watersheds in Santa Cruz, Monterey, and San Luis Obispo counties, California. In the study described below, researchers do not expect to kill any listed fish but a small number may die as an unintended result of the research activities.

The proposed research includes three studies consisting of lagoon surveys and stream surveys in Santa Cruz, Monterey, and San Luis Obispo counties. The purpose of the lagoon surveys is to provide estimates of abundance of juvenile steelhead rearing in the lagoons during the summer rearing period through mark-recapture protocol using PIT tag technology. A secondary goal of the lagoon research is to investigate the relationship between population abundance estimates and catch per unit effort that has been used in past surveys. The purpose of the stream surveys is to enumerate rearing juvenile steelhead and other fish species. The data from lagoon and stream surveys will be used to track salmonid spawning and rearing conditions, prioritize restoration and conservation efforts, and inform land and water use decisions.

In study 1, juvenile salmonid distribution and population abundance and habitat assessment will be determined in the San Lorenzo River, Liddell Creek, Laguna Creek, and Majors Creek. Sampling will occur at multiple survey sites twice annually in lagoons from April through November and once annually in streams from August through November. Juvenile CCC coho salmon and juvenile CCC steelhead may be captured by backpack electrofishing or seine. Captured fish will be anesthetized, handled (identified, measured and weighed), and released. Juveniles captured in lagoons will be PIT tagged and some will have scales removed for analysis.

Study 2 will take place in the Salinas River, Arroyo Seco, Nacimento River, San Antonio River in Monterey and San Luis Obispo counties, California. Sampling will occur at multiple survey sites three times annually in lagoons from April through November and once annually in streams from August through November. Juvenile S-CCC steelhead will be captured (by backpack electrofishing or seine), anesthetized (optional), handled (identified, measured, weighed), and released. A subsample of captured S-CCC steelhead will be sampled for scales.

Study 3 is a juvenile salmonid distribution, population abundance, and habitat assessment study in the lower watershed and lagoon of Arroyo Grande including Tar Spring Creek and Los Berros Creek in San Luis Obispo County, California. Sampling will occur at multiple survey sites twice annually in lagoons from April through November and once annually in streams from August through November. Juvenile S-CCC steelhead will be captured (by backpack electrofishing or seine), anesthetized, handled (identified, measured, weighed) and released. A subset of captured fish will be sampled for scales.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final actions in the Federal Register.

Dated: May 25, 2011.
Therese Conant,
Acting Division Chief, Endangered Species Division, Office of Protected Resources, National Marine Fisheries Service.

[FR Doc. 2011-13550 Filed 5-31-11; 8:45 am]

BILLING CODE 3510-22-P